FEDERAL MEDIATION AND CONCILIATION SERVICE

Arbitrator's Report and Fee Statement

AGENCY: Federal Mediation and Conciliation Service (FMCS).

ACTION: 60-Day notice and request for comments.

SUMMARY: The Federal Mediation and Conciliation Service (FMCS), invites the public and other Federal Agencies to take this opportunity to comment on the following information collection request, Arbitrator's Report and Fee Statement, FMCS Form R-19. This information collection request will be submitted for approval to the Office of Management Budget (OMB) in compliance with the Paperwork Reduction Act (PRA). The Arbitrator's Report and Fee Statement, FMCS Form R-19, allows FMCS to comply with its statutory obligation to make governmental facilities available for voluntary arbitration. To carry out this policy, FMCS have issued regulations which provide for the operation and maintenance of a roster of professional arbitrators. The FMCS Form R-19, which arbitrators file with the Agency following each decision rendered, allows FMCS to monitor the work of the Arbitrator and to collect arbitration information, such as median arbitrator fees and days spent on each case, for the Agency's annual report.

DATES: Comments must be submitted on or before May 6, 2025.

ADDRESSES: You may submit comments, identified by Arbitrator's Report and Fee Statement (FMCS Form R-19), through one of the following methods:

• Email: register@fmcs.gov;

• Mail: Office of General Counsel, One Independence Square, 250 E St. SW, Washington, DC 20427.

FOR FURTHER INFORMATION CONTACT: Karen Pierce, 202-606-3672, kpierce@fmcs.gov.

SUPPLEMENTARY INFORMATION: Copies of the agency form are available here. Paper copies are available from the Office of Client Services by emailing Karen Pierce at the email address above. Please ask for the Arbitrator's Report and Fee Statement (FMCS Form R-19).

I. Request for Comments

FMCS solicits comments to:

i. Evaluate whether the proposed collections of information are necessary for the proper performance of the functions of the agency, including whether the information will have practical utility.

ii. Enhance the accuracy of the agency's estimates of the burden of the proposed collection of information.

iii. Enhance the quality, utility, and clarity of the information to be collected.

iv. Minimize the burden of the collections of information on those who are to respond, including the use of appropriate automated, electronic collection technologies or other forms of information technology.

II. Information Collection Request

Agency: Federal Mediation and Conciliation Service.

Title: Arbitrator's Report and Fee Statement (FMCS Form R-19).

OMB Number: 3076-0003.

Type of Request: Extension without change of a currently approved collection.

Affected Public: Private Sector to include businesses or other for-profits.

Frequency: Once a year, on occasion.

Burden: The total annual burden estimate is that FMCS will receive approximately 2,000 responses per year, one response per year. This form takes about 5 minutes to complete.

Information Collection Requirement:

Purpose and Description of Data Collection: Pursuant to 29 U.S.C. 171(b) and 29 CFR part 1404, FMCS assumes responsibility to monitor the work of the arbitrators who serve on its Roster. This is satisfied by requiring the completion and submission of a Report and Fee Statement, which indicates when the arbitration award was rendered, the file number, the company and union, the issues, whether briefs were filed and transcripts taken, if there were any waivers by parties on the date the award was due, and the fees and days for services of the arbitrator.

Use of Results: FMCS publishes this information in the agency's annual report, to inform the public about the arbitration services program and certain national trends in arbitration.

III. The Official Record

The official records are electronic records.

Dated: March 4, 2025.
Alisa Zimmerman,
Deputy General Counsel.

[FR Doc. 2025-03701 Filed 3-6-25; 8:45 am]

BILLING CODE 6732-01-P